DEPARTMENT OF TRANSPORTATION

Federal Aviation Administration

Notice of Intent To Rule on Application (01-06-C-00-MFR) To Impose and Use the Revenue From a Passenger Facility Charge (PFC) at Rogue Valley International—Medford Airport, Submitted by the Jackson County Airport Authority, Medford, Oregon

AGENCY: Federal Aviation Administration (FAA), DOT.

ACTION: Notice of intent to rule on application.

SUMMARY: The FAA proposes to rule and invites public comment on the application to impose and use PFC revenue at Rogue Valley International—Medford Airport under the provisions of 49 U.S.C. 40117 and Part 158 of the Federal Aviation Regulations (14 CFR part 158).

DATES: Comments must be received on or before March 15, 2001.

ADDRESSES: Comments on this application may be mailed or delivered in triplicate to the FAA at the following address: J. Wade Bryant, Manager; Seattle Airports District Office, SEA-ADO; Federal Aviation Administration; 1601 Lind Avenue SW., Suite 250, Renton, Washington 98055-4056.

In addition, one copy of any comments submitted to the FAA must be mailed or delivered to Mr. Bern E. Case, A.A.E., Director of Aviation, at the following address: Jackson County Airport Authority, 3650 Biddle Road, Medford, Oregon 97504.

Air Carriers and foreign air carriers may submit copies of written comments previously provided to Rogue Valley International—Medford Airport, under section 158.23 of part 158.

FOR FURTHER INFORMATION CONTACT: Ms. Suzanne Lee-Pang, (425) 227-2654; Seattle Airports District Office, SEA-ADO; 1601 Lind Avenue SW., Suite 250, Renton, Washington 98055-4056. The application may be reviewed in person at the same location.

SUPPLEMENTARY INFORMATION: The FAA proposes to rule and invites public comment on the application (01-06-C-00-MFR) to impose and use PFC revenue at Rogue Valley International—Medford Airport, under the provisions of 49 U.S.C. 40117 and part 158 of the Federal Aviation Regulations (14 CFR part 158).

On January 31, 2001, the FAA determined that the application to impose and use the revenue from a PFC submitted to the Jackson County Airport Authority, Rogue Valley International—Medford Airport, Medford, Oregon, was substantially complete within the requirements of § 158.25 of part 158. The FAA will approve or disapprove the application, in whole or in part, no later than May 5, 2001.

The following is a brief overview of the application.

Level of the Proposed PFC: $4.50.

Proposed Charge-Effective Date: February 1, 2003.

Proposed Charge-Expiration Date: June 1, 2003.

Total Requested for Use Approval: $271,648.

Brief Description of Proposed Project: Parallel taxiway extension; High Intensity Runway Lights (HIRL)—runway lighting replacement.

Class or classes of air carriers which the public agency has requested not be required to collect PFC's: Operations by Air Taxi/Commercial Operators when enplaning revenue passengers in limited, irregular, special service air taxi/commercial operations such as air ambulance services, student instruction, non-stop sightseeing flights that begin and end at the airport and are conducted within a 25-mile radius of the airport, and other similar limited, irregular, special service operations by such Air Taxi/Commercial Operators.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Rogue Valley International—Medford Airport.

Issued in Renton, Washington on January 31, 2001.
David A. Field,
Manager, Planning, Programming and Capacity Branch, Northwest Mountain Region.

[FR Doc. 01-3661 Filed 2-12-01; 8:45 am]

BILLING CODE 4910-13-M